DEPARTMENT OF COMMERCE

National Oceanic and Atmospheric Administration

RIN 0648-XA833

Marine Mammals; File No. 10018

AGENCY: National Marine Fisheries Service (NMFS), National Oceanic and Atmospheric Administration (NOAA), Commerce.

ACTION: Notice; receipt of application for permit amendment.

SUMMARY: Notice is hereby given that Rachel Cartwright, Ph.D., Keiki Kohola Project, Oxnard, California, has applied for an amendment to Scientific Research Permit No. 10018-01.

DATES: Written, telefaxed, or email comments must be received on or before December 21, 2011.

ADDRESSES: The application and related documents are available for review by selecting “Records Open for Public Comment” from the Features box on the Applications and Permits for Protected Species home page, https://apps.nmfs.noaa.gov, and then selecting File No. 10018 from the list of available applications.

These documents are also available upon written request or by appointment in the following offices:

Permits, Conservation and Education Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Joselyd Garcia-Reyes or Carrie Hubard, (301) 427-8401.

SUPPLEMENTARY INFORMATION: The subject amendment to Permit No. 10018-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 10018, issued on June 18, 2008 (73 FR 36042) and amended on July 14, 2010 (75 FR 43150), authorizes Dr. Cartwright to conduct humpback whale (Megaptera novaeangliae) research, consisting of photo-identification, focal follows, underwater observations, and collection of sloughed skin, in Hawaiian and Alaskan waters from May through September each year. The permit holder is requesting the permit be amended to authorize deployment of: (1) Suction cup satellite tags to a maximum of 18 females in female-calf pairs and (2) implantable satellite tags to a maximum of 6 yearling humpback whales, annually. Tagging would only occur in Hawaii. The purposes of the tagging activities are to: (1) Verify the impact of research vessels during boat based behavioral follows, (2) further understand how female-calf pairs use breeding ground habitat, potentially identifying key resting regions and establishing the degree to which female-calf pairs circulate within vs. move between specific favored female-calf regions, and (3) further document the behavioral dynamics of newly-independent yearlings within breeding regions. The amended permit would expire on June 30, 2013.

A draft supplemental environmental assessment (SEA) has been prepared in compliance with the National Environmental Policy Act of 1969 (42 U.S.C. 4321 et seq.), to examine whether significant environmental impacts could result from issuance of the proposed scientific research permit. The draft SEA is available for review and comment simultaneous with the scientific research permit application.

Concurrent with the publication of this notice in the Federal Register, NMFS is forwarding copies of this application to the Marine Mammal Commission and its Committee of Scientific Advisors.

Dated: November 15, 2011.
P. Michael Payne,
Chief, Permits and Conservation Division, Office of Protected Resources, National Marine Fisheries Service.

[FR Doc. 2011-30013 Filed 11-18-11; 8:45 am]

BILLING CODE 3510-22-P